DEPARTMENT OF TRANSPORTATION

Federal Aviation Administration

Intent To Prepare Environmental Impact Statement and Hold Environmental Scoping Meetings for Airport Master Plan Development at T.F. Green Airport, Warwick, RI

AGENCY: Federal Aviation Administration, DOT.

ACTION: Notice of intent to prepare Environmental Impact Statement and hold environmental scoping meetings.

SUMMARY: The Federal Aviation Administration announces that it will prepare an Environmental Impact Statement (EIS) for projects proposed in the Airport Master Plan for T.F. Green Airport in Warwick, Rhode Island. Public scoping meetings will be held to ensure that all significant issues related to the proposed projects are identified.

FOR FURTHER INFORMATION CONTACT: Mr. John Silva, Federal Aviation Administration, Airports Division, ANE-600, 12 New England Executive Park, Burlington, MA 01803; Telephone 781-238-7602.

SUPPLEMENTARY INFORMATION: The Rhode Island Airport Corporation (RIAC) is preparing an Airport Master Plan and related Airport Layout Plan to identify and depict future improvements to T.F. Green Airport in Warwick, Rhode Island. The Federal Aviation Administration will prepare an EIS prior to approval of RIAC's Airport Layout Plan or funding development depicted thereon.

Projects identified in the Airport Master Plan that will be assessed in the EIS include reconstruction of Runway 16-34, provision for full Run way Safety Areas for Runway 16-34, potential extension of Runway 16-34, potential extension of Runway 5R-23L, potential closure of Runway 5L-23R, taxiway improvements, terminal development, and associated ancillary development. Additional development that may be assessed in this EIS include the expansion of the aircraft Remain Overnight areas and vehicle parking, and peripheral roadway improvements.

Alternatives assessed in the EIS may include, but may not be limited to: No-Build/No-Action; Reconstruct and shorten Runway 16/34 to accommodate standard safety areas within the existing [airport] footprint and construct associated terminal and roadway projects; Reconstruct Runway 16/34 at its existing pavement length with standard safety areas and construct associated terminal and roadway projects; and Extend Runway 16/34 and Runway 5R-23L, with standard safety areas and construct associated terminal and roadway projects.

The Rhode Island Airport Corporation has convened a Study Resource Committee for community representation during the continued development of the Airport Master Plan Update. To ensure that the full range of issues related to the future Master Plan are addressed and that all significant issues are identified, FAA intends to consult and coordinate with federal, state and local agencies which have jurisdiction by law or have specific expertise with respect to any environmental impacts that may result from any selected projects. An environmental scoping meeting for these agencies will be held at the T.F. Green Airport, in the Mary Brennan Board Room located behind the Delta ticket counter at the Airport, at 1 p.m. on Thursday, July 25, 2002. FAA will also solicit input from the public with a public scoping meeting on Thursday, July 25, 2002, from 5 p.m. to 8 p.m at Toll Gate High School, 575 Centerville Road, Warwick, Rhode Island. In addition to providing input at the scoping meetings, agencies and the public may submit written comments on the scope of the environmental study to the address identified in the FOR FURTHER INFORMATION CONTACT section of this notice. Comments must be submitted by August 9, 2002.

Issued in Burlington, Massachusetts, on June 12, 2002.
Vincent A. Scarano,
Manager, Airports Division, New England Region, Federal Aviation Administration.

[FR Doc. 02-16167 Filed 6-26-02; 8:45 am]

BILLING CODE 4910-13-M